DEPARTMENT OF AGRICULTURE

Forest Service

Proposed Recreation Fee Sites

AGENCY: Forest Service, Agriculture (USDA).

ACTION: Notice.

SUMMARY: The Tongass National Forest is proposing to establish several recreation fee sites. Proposed recreation fees collected at the proposed recreation fee sites would be used for operation, maintenance, and improvement of the sites. An analysis of nearby recreation fee sites with similar amenities shows the proposed recreation fees that would be charged at the proposed recreation fee sites are reasonable and typical of similar recreation fee sites in the area.

DATES: If approved, the proposed recreation fee sites and proposed recreation fees would be established no earlier than six months following the publication of this notice in the Federal Register.

ADDRESSES: Tongass National Forest, Attention: Recreation Fees, 648 Mission Street, Suite 110, Federal Building, Ketchikan, AK 99901-6591.

FOR FURTHER INFORMATION CONTACT: John Suomala, Recreation Program Manager, 907-802-4229, john.p.suomala@usda.gov.

SUPPLEMENTARY INFORMATION: The Federal Lands Recreation Enhancement Act (16 U.S.C. 6803(b)) requires the Forest Service to publish in the Federal Register a six-month advance notice of establishment of recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed expanded amenity recreation fee of $15 per night would be charged for El Cap Campground. In addition, a proposed expanded amenity recreation fee of $75 per night would be charged for rental of El Cap, Woodpecker, Little Lake, and Herbert Glacier View cabins; a proposed expanded amenity recreation fee of $65 per night would be charged for rental of the Perseverance Lake cabin; and a proposed expanded amenity recreation fee of $125 per night would be charged for rental of the Mendenhall Campground cabin.

Expenditures of recreation fees collected at the proposed recreation fee sites would enhance recreation opportunities, improve customer service, and address maintenance needs. Once public involvement is complete, the proposed recreation fee sites and proposal recreation fees will be reviewed by a Recreation Resource Advisory Committee prior to a final decision and implementation. Campgrounds and cabins could be reserved online at www.recreation.gov or by calling 877-444-6777. Reservations would cost $8.00 per reservation.

Dated: July 16, 2024.
Jacqueline Emanuel,
Associate Deputy Chief, National Forest System.

[FR Doc. 2024-16382 Filed 7-24-24; 8:45 am]

BILLING CODE 3411-15-P